DEPARTMENT OF COMMERCE

Foreign-Trade Zones Board

[B-71-2014]

Foreign-Trade Zone (FTZ) 32—Miami, Florida; Notification of Proposed Production Activity; Brightstar Corporation (Cell Phone Kitting); Miami, Florida

Greater Miami Foreign-Trade Zone, Inc., grantee of FTZ 32, submitted a notification of proposed production activity to the FTZ Board on behalf of Brightstar Corporation (Brightstar), located in Miami, Florida. The notification conforming to the requirements of the regulations of the FTZ Board (15 CFR 400.22) was received on October 1, 2014.

Brightstar already has authority to produce cell phones and cell phone accessories within Site 6 of FTZ 32. The current request would add foreign status materials/components to the scope of authority. Pursuant to 15 CFR 400.14(b), additional FTZ authority would be limited to the specific foreign-status materials/components and specific finished products described in the submitted notification (as described below) and subsequently authorized by the FTZ Board.

Production under FTZ procedures could exempt Brightstar from customs duty payments on the foreign status materials/components used in export production. On its domestic sales, Brightstar would be able to choose the duty rates during customs entry procedures that apply to cell phones (duty rate 0%) for the foreign status materials/components noted below and in the existing scope of authority. Customs duties also could possibly be deferred or reduced on foreign status production equipment.

The materials/components sourced from abroad include: Plastic bubble wrap; plastic carrying cases; packaging trays and inserts; plastic bags and sacks; corrugated and non-corrugated paper boxes; paper packaging trays and inserts; paper labels; instruction manuals; nickel-cadmium batteries; nickel-iron batteries; nickel-metal batteries; lithium-ion batteries; lithium-metal batteries; cell phone parts; and, memory cards (duty rate ranges from 0 to 6.5%).

Public comment is invited from interested parties. Submissions shall be addressed to the Board's Executive Secretary at the address below. The closing period for their receipt is November 17, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at christopher.kemp@trade.gov (202) 482-0862.

Dated: October 1, 2014.
Andrew McGilvray,
Executive Secretary.

[FR Doc. 2014-24088 Filed 10-7-14; 8:45 am]

BILLING CODE 3510-DS-P